INTERNATIONAL TRADE COMMISSION

[Investigation Nos. 701-TA-601 and 731-TA-1411 (Review)]

Laminated Woven Sacks From Vietnam

Determinations

On the basis of the record ¹ developed in the subject five-year reviews, the United States International Trade Commission (“Commission”) determines, pursuant to the Tariff Act of 1930 (“the Act”), that revocation of the countervailing duty order and antidumping duty order on laminated woven sacks from Vietnam would be likely to lead to continuation or recurrence of material injury to an industry in the United States within a reasonably foreseeable time.

¹ The record is defined in § 207.2(f) of the Commission's Rules of Practice and Procedure (19 CFR 207.2(f)).

Background

The Commission instituted these reviews on May 1, 2024 (89 FR 35241) and determined on August 5, 2024, that it would conduct expedited reviews (89 FR 77544, September 23, 2024).

The Commission made these determinations pursuant to section 751(c) of the Act (19 U.S.C. 1675(c)). It completed and filed its determinations in these reviews on November 15, 2024. The views of the Commission are contained in USITC Publication 5561 (November 2024), entitled Laminated Woven Sacks from Vietnam: Investigation Nos. 701-TA-601 and 731-TA-1411 (Review).

By order of the Commission.
Issued: November 15, 2024.
Sharon Bellamy,
Supervisory Hearings and Information Officer.

[FR Doc. 2024-27120 Filed 11-19-24; 8:45 am]

BILLING CODE 7020-02-P